DEPARTMENT OF THE INTERIOR

National Park Service

[NPS-WASO-NAGPRA-NPS0035103; PPWOCRADN0-PCU00RP14.R50000]

Notice of Intent To Repatriate Cultural Items: Hastings Museum, Hastings, NE

AGENCY: National Park Service, Interior.

ACTION: Notice.

SUMMARY: In accordance with the Native American Graves Protection and Repatriation Act (NAGPRA), the Hastings Museum intends to repatriate a certain cultural item that meets the definition of an unassociated funerary object and that has a cultural affiliation with the Indian Tribes or Native Hawaiian organizations in this notice. The cultural item was removed from Trigg County, KY.

DATES: Repatriation of the cultural item in this notice may occur on or after February 13, 2023.

ADDRESSES: Dan Brosz, Hastings Museum, 1330 N Burlington Avenue, Hastings, NE 68901, telephone (402) 462-2399, email dbrosz@cityofhastings.org.

SUPPLEMENTARY INFORMATION: This notice is published as part of the National Park Service's administrative responsibilities under NAGPRA. The determinations in this notice are the sole responsibility of the Hastings Museum. The National Park Service is not responsible for the determinations in this notice. Additional information on the determinations in this notice, including the results of consultation, can be found in the summary or related records held by the Hastings Museum.

Description

On an unknown date, an unassociated funerary object was removed from an unidentified mound in Trigg County, KY, by R.E. Dodge. This unassociated object came to the Hastings Museum between 1926 and 1931. The one unassociated funerary object is a cylindrical bead made from tightly wound copper.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical.

Determinations

Pursuant to NAGPRA and its implementing regulations, and after consultation with the appropriate Indian Tribes and Native Hawaiian organizations, the Hastings Museum has determined that:

• The one cultural item described above is reasonably believed to have been placed with or near individual human remains at the time of death or later as part of the death rite or ceremony and is believed, by a preponderance of the evidence, to have been removed from a specific burial site of a Native American individual.

• There is a relationship of shared group identity that can be reasonably traced between the cultural item and The Chickasaw Nation (as the requestor on behalf of and in coordination with the Cherokee Nation; Eastern Band of Cherokee Indians; The Chickasaw Nation; and The Muscogee (Creek) Nation).

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 13, 2023. If competing requests for repatriation are received, the Hastings Museum must determine the most appropriate requestor prior to repatriation. Requests for joint repatriation of the cultural items are considered a single request and not competing requests. The Hastings Museum is responsible for sending a copy of this notice to the Indian Tribe identified in this notice.

Authority: Native American Graves Protection and Repatriation Act, 25 U.S.C. 3003, and the implementing regulations, 43 CFR 10.8, 10.10, and 10.14.

Dated: January 4, 2023.
Melanie O'Brien,
Manager, National NAGPRA Program.

[FR Doc. 2023-00473 Filed 1-11-23; 8:45 am]

BILLING CODE 4312-52-P